DEPARTMENT OF EDUCATION

Office of Vocational and Adult Education; Overview Information; Promoting Rigorous Career and Technical Education Programs of Study; Notice Inviting Applications for New Awards Using Fiscal Year (FY) 2009 Funds

Catalog of Federal Domestic Assistance (CFDA) Number: 84.051C.

Dates:

Applications Available: August 6, 2010.

Deadline for Notice of Intent to Apply: August 16, 2010.

Deadline for Transmittal of Applications: September 7, 2010.

Full Text of Announcement

I. Funding Opportunity Description

Purpose of Program: The Promoting Rigorous Career and Technical Education Programs of Study program is authorized under section 114(c)(1) of the Carl D. Perkins Career and Technical Education Act of 2006 (Act), 20 U.S.C. 2324(c)(1). Under this section the Secretary is authorized to carry out research, development, dissemination, evaluation and assessment, capacity building, and technical assistance with regard to the career and technical education (CTE) programs under the Act. Through this program and using a “Programs of Study Design Framework” (Framework), we intend to promote and improve State and local development and implementation of, and to assess the impact of student participation in CTE programs of study (POSs) that link secondary and postsecondary education, combine academic and career and technical education in a structured sequence of courses that progress from broad foundation skills to more occupationally specific courses, offer students the opportunities to earn postsecondary credits for courses taken in high school, and lead to a postsecondary credential, certificate, or degree. The Framework is available on the Department's Perkins Collaborative Resource Network (PCRN) Web site at: http://cte.ed.gov/nationalinitiatives/rposdesignframework.cfm.

Priority: This priority is from the notice of final priorities, requirements, and selection criteria published elsewhere in this issue of the Federal Register.

Competitive Preference Priority: For FY 2010, this priority is a competitive preference priority. Under 34 CFR 75.105(c)(2)(i) we award an additional 10 points to an application, depending on how well the application meets this priority.

This priority is:

Commitment to the Project

The Assistant Secretary for Vocational and Adult Education establishes a priority for applications that propose to contribute funds from other sources of funds to the total cost of the project. To meet this priority, the applicant must propose a budget that describes how the State will contribute 30 percent of the total cost of the project from other sources. For these purposes, the applicant may use—

(a) State leadership funds awarded under section 111 of the Act and as specified in section 112(a)(1) of the Act;

(b) Non-Federal contributions including in-kind contributions, such as facilities, equipment, supplies, services, and other resources; or

(c) A combination of State leadership funds and non-Federal contributions.

Final Requirements

The Assistant Secretary for Vocational and Adult Education establishes the following requirements for this program. We may apply one or more of these requirements in any year in which this program is in effect.

Selected Program of Study: To be eligible for funding an applicant is required to demonstrate that it has selected for implementation a State-developed or State-approved POS that is built and sustained with all of the following 10 Framework components:

(a) Legislation and Policies: State and local legislation, rules and regulations, or administrative policies that promote POS development and implementation;

(b) Partnerships: Ongoing relationships among education, business, and other community stakeholders that support POS design, implementation, and maintenance;

(c) Professional Development: Sustained, intensive, and focused professional development opportunities for administrators, teachers, and faculty that foster POS design, implementation, and maintenance;

(d) Accountability and Evaluation Systems: Accountability and evaluation systems and strategies that gather quantitative and qualitative data on both POS components and student outcomes in order to inform ongoing efforts to develop and implement POSs and to determine their effectiveness;

(e) College- and Career-Readiness Standards: POS content standards that define what students are expected to know and be able to do to enter and advance in college, their careers, or both, and that include aligned academic and technical content;

(f) Course Sequences: Course sequences within a POS that help students transition to postsecondary education without needing to duplicate classes or enroll in remedial courses.

(g) Credit Transfer Agreements: Formal credit transfer agreements among secondary schools and postsecondary institutions;

(h) Guidance Counseling and Career Advisement: Systems that provide career counseling and academic advisory services to help students make informed decisions about which POS to pursue;

(i) Teaching and Learning Strategies: Innovative and creative instructional approaches that enable teachers to integrate academic and technical instruction and also enable students to apply academic and technical learning in their POS coursework; and

(j) Technical Skills Assessments: Existing valid and reliable technical skills assessments that provide ongoing information on the extent to which students are attaining the necessary knowledge and skills for entry into and advancement in postsecondary education and careers in their chosen POS.

Each of these 10 components of the Framework has unique sub-components. The sub-components for each of the 10 Framework components are in paragraph (a)(3) of selection criterion (a), State capacity to implement a rigorous program of study. Each State and its participating local educational agencies (LEAs) must use all 10 Framework components, must use each of the sub-components of the 10 Framework components that the State deems relevant to the selected POS, and must explain how it plans to support the selected POS using the relevant sub-components.

Existing Technical Skills Assessments: Applicants must propose a project to implement a State-developed or State-approved POS for which valid and reliable technical skills assessments (either third-party industry-recognized assessments, or State-developed or State-approved technical skills assessments based on industry standards that grant high school or postsecondary credit, or both) have been developed.

Local Implementation: The applicant must propose a project to implement the selected POS in at least three LEAs that contain high schools, in concert with at least one of the LEA's postsecondary partners, i.e., at least one postsecondary institution (either two-year or four-year). If a participating LEA contains more than one high school, the LEA must implement the selected POS in at least one of its high schools. To the extent feasible, the State must implement the selected POS in at least one urban, one suburban, and one rural community within the State, and where circumstances preclude a State from serving at least one of each of these types of communities, provide an explanation in its application. To be eligible for funding an applicant is required to demonstrate that the LEAs chosen for participation in the POS project have the capacity to have all 10 Framework components in place either at the start of the POS project or no later than the beginning of year 2 of the project. The applicant must include a letter of commitment from each LEA, expressing its interest in participating in the project and its commitment to implement the selected POS as prescribed by the State in years 2 through 4 of the project and to maintain constancy in the implementation of the selected POS. During year 1 of the project, CTE staff from the funded States must provide technical assistance to their participating LEAs in order to strengthen weak Framework components or incorporate missing components, so that all 10 Framework components are in place to support the POS when it is implemented at the LEA level. The participating LEAs must implement the selected POS during years 2 through 4 of the project, beginning at the start of the academic year corresponding to year 2 of the project. The applicant must include a plan that describes how CTE State staff will continue to work closely with the LEAs throughout the project period, and provide technical assistance and support to ensure constancy in the implementation of the selected POS in the participating LEAs.

Applicants in States that have a single LEA must implement the selected POS in at least three high schools, in concert with at least one of the LEA's postsecondary partners, i.e., at least one postsecondary institution (either two-year or four-year). To the extent feasible, the participating three high schools must represent urban, suburban, and rural communities and, where circumstances preclude a State from serving at least one of each of these types of communities in its three participating high schools, the State must provide an explanation in its application. All requirements that apply to LEAs in this notice would apply to the participating high schools and their postsecondary partner(s).

Evaluation: Applicants must propose to conduct an annual evaluation of the project to assess the constancy of the implementation of the selected POS in the participating LEAs and the effectiveness of each of the 10 Framework components. To ensure consistency of implementation across the selected LEAs, CTE staff from the funded States must use a self-assessment instrument based on the 10 Framework components as part of the grant's project evaluation.

Applicants must also use student outcome data to assess the progress of students enrolled in each selected POS. To ensure consistency across the funded States, State staff must attend a POS Evaluation Design meeting in Washington, DC, following their receipt of the grant award, to discuss and possibly refine the grantee self-assessment tools related to the 10 Framework components that are developed by the grantees, and to work with OVAE and with each other to develop a plan for the States' use of student outcome data to assess the progress of students enrolled in each selected POS. This meeting will address evaluation and data collection issues, such as, student definitions; the number of students to be selected and the method of student selection to be followed; strategies for comparing outcomes for students who participate in the POS to other students who do not; the identification of potential comparison groups through the States' longitudinal data systems, including any documented valid and reliable alternative method of collecting individual student employment outcome data; and the timing of reporting. After the meeting, we will include the agreed-upon plan for the State's use of the student outcome data as an addendum to each grantee's cooperative agreement.

In addition to requiring applicants to use student outcome data to assess the progress of students enrolled in each selected POS, the State must collect baseline data on postsecondary students who have not had the benefit of participating in a POS aligned with the 10 Framework components in order to compare the outcomes for those students with the outcomes for students who participate in a POS aligned with the 10 Framework components. The State must also collect and report data annually on the following seven performance measures, which are based on the indicators of performance required under section 113(b) (State Performance Measures) and section 203(e) (Tech Prep Indicators of Performance and Accountability) of the Act:

(a) Secondary school completion. The percentage of secondary students participating in the POS supported by the grant award who earn a high school diploma.

(b) Technical skills attainment. The percentage of secondary students participating in the POS supported by the grant award who attain technical skills.

(c) Earned postsecondary credit during high school. The percentage of secondary students participating in the POS supported by the grant award who earn postsecondary credit.

(d) Enrollment in postsecondary education. The percentage of secondary students participating in the POS supported by the grant award who enroll in postsecondary education by the fall following high school graduation.

(e) Enrollment in postsecondary education in a field or major related to the secondary POS. The percentage of secondary students participating in the POS supported by the grant award who enroll in a postsecondary education program in a field or major related to the participant's secondary POS.

(f) Need for developmental course work in postsecondary education. The percentage of secondary students participating in the POS supported by the grant award who enroll in one or more postsecondary education developmental courses.

(g) Postsecondary credential, certificate, or diploma attainment. The percentage of secondary students participating in the POS supported by the grant award who attain an industry-recognized credential, certificate, or associate's degree, within two years following enrollment in postsecondary education.

Capacity of Statewide Longitudinal Data System: Applicants must propose the use of a longitudinal data system that has the capacity to link and share data among systems housing different types of data, in order to collect valid and reliable data on the required performance measures identified in the Evaluation requirement. The longitudinal data system must contain, at a minimum, the elements listed below, which elements are consistent with section 6401(e)(2)(D) of the America COMPETES Act (P.L. 110-69):

(a) Statewide unique student identifiers;

(b) Student-level enrollment data;

(c) Student-level course completion (transcript) data;

(d) The ability to match student-level secondary and postsecondary data;

(e) The ability to match student-level data to employment outcome data, using—

(1) Unemployment Insurance (UI) wage records, or

(2) Documented valid and reliable alternative methods such as surveys that have, at a minimum, a 70 percent response rate;

(f) A State data audit plan to verify that the education data are valid and reliable; and

(g) An assurance that the use of data will be consistent with the requirements and protections contained in the Family Educational Rights and Privacy Act (FERPA).

Dissemination: Applicants must propose to implement a dissemination plan for the project. The plan must include the development and maintenance of a project Web page for posting project materials, such as: Materials describing the State's process for approving POSs submitted by local recipients of funds; curricula developed for the selected POS; technical assistance materials provided to the participating LEAs and to other local recipients of funds, if applicable; professional development materials; materials describing evaluation results, including performance data on the required performance measures based on the indicators of performance; and other materials containing practical information that would be useful to other States in their efforts to implement and evaluate POSs. Applicants must also participate in POS activities sponsored by the Department, such as annual POS grantee meetings in which grantees describe the progress of their projects and discuss common issues, strategies, and models of best practices; OVAE/POS grantee presentations at the States' Annual National Career Clusters Institutes; OVAE/POS grantee presentations at annual NASDCTEc meetings; and presentations at OVAE-sponsored data quality meetings.

Cooperative Agreement: We plan to make each award to grantees under this program under the terms of a cooperative agreement. We expect to work closely with the funded States to maintain substantial involvement in project implementation, and to provide oversight on project activities by working collaboratively to develop a plan for the use of student outcome data, reviewing and approving project activities, reviewing and approving one stage of work before the grantee can begin a subsequent stage during the project period, and halting an activity if it is not consistent with the program requirements.

Program Authority: 20 U.S.C. 2324(c)(1).

Applicable Regulations: (a) The Education Department General Administrative Regulation (EDGAR) in 34 CFR parts 75, 77, 80, 81, 82, 84, 85, 97, 98, and 99. (b) The notice of final priorities, requirements, and selection criteria published elsewhere in this issue of the Federal Register.

II. Award Information

Type of Award: Cooperative agreements.

Estimated Available Funds: $1,500,000 is available from the FY 2009 appropriation for the first 12 months of this project period. Funding for years 2 through 4 is subject to the availability of funds and to a grantee meeting the requirements of 34 CFR 75.253.

Estimated Range of Awards: $240,000 to $260,000 for the first 12 months.

Estimated Average Size of Awards: $250,000 for a single budget period of 12 months.

Estimated Number of Awards: 6.

Note: The Department is not bound by any estimates in this notice.

Project Period: Up to 48 months.

III. Eligibility Information

1. Eligible Applicants: State boards designated or created consistent with State law as the sole State agencies responsible for the administration of CTE in their States or for the supervision of the administration of CTE in their States, in accordance with the definition of the term “eligible agency” in section 3(12) of the Act.

2. Cost Sharing or Matching: This competition does not require sharing or matching.

IV. Application and Submission Information

1. Address to Request Application Package: Laura Messenger, U.S. Department of Education, 400 Maryland Avenue, SW., room 11028, Potomac Center Plaza, Washington, DC 20202-7241. Telephone: (202) 245-7840 or by e-mail: laura.messenger@ed.gov.

If you use a telecommunications device for the deaf (TDD), call the Federal Relay Service (FRS), toll free, at 1-800-877-8339.

Individuals with disabilities can obtain a copy of the application package in an alternative format (e.g., braille, large print, audiotape, or computer diskette) by contacting the program contact person listed in this section.

2. Content and Form of Application Submission: Requirements concerning the content of an application, together with the forms you must submit, are in the application package for this competition.

Notice of Intent to Apply: The Department will be able to develop an efficient process for reviewing grant applications if it has information regarding the number of entities that intend to apply for funding under this competition. Therefore, the Secretary strongly encourages each potential applicant to notify the Department by sending a short e-mail message indicating the applicant's intent to submit an application for funding. The e-mail should include only the applicant's intent to submit an application; it does not need to include information regarding the content of the proposed application. This e-mail notification should be sent no later than August 16, 2010 to Laura Messenger at: laura.messenger@ed.gov. You must include “POS Application” in the subject line of your electronic message. We will consider an application submitted by the deadline date for transmittal of applications even if the applicant did not provide notice of its intent to apply.

Page Limit: The application narrative (Part III of the application) is where you, the applicant, address the selection criteria that reviewers use to evaluate your application. You must limit the application narrative [Part III] to no more than 50 pages, using the following standards:

• A “page” is 8.5″ x 11″, on one side only, with 1″ margins on the top, bottom, and both sides.

• Double space (no more than three lines per vertical inch) all text in the application narrative, including titles, headings, footnotes, quotations, references, and captions, as well as all text in charts, tables, figures, and graphs.

• Use a font that is 12 point or larger or no smaller than 10 pitch (charters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section [Part III].

We will reject your application if you exceed the page limit.

3. Submission Dates and Times:

Applications Available: August 6, 2010.

Deadline for Notice of Intent to Apply: August 16, 2010.

Deadline for Transmittal of Applications: September 7, 2010.

Applications for grants under this program must be submitted electronically using the Electronic Grant Application System (e-Application) accessible through the Department's e-Grants site. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section in this notice.

6. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this competition may be submitted electronically or in paper format by mail or hand delivery.

a. Electronic Submission of Applications.

Applications under the Promoting Rigorous Career and Technical Education Programs of Study program, CFDA Number 84.051C, must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this program after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, the Financial Education for College Access and Success Budget Spreadsheet(s), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application, and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement and may submit your application in paper format if you are unable to submit an application through e-Application because—

• You do not have access to the Internet; or

• You do not have the capacity to upload large documents to e-Application; and

• No later than two weeks before the application deadline date (14 calendar days; or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Laura Messenger, U.S. Department of Education, 400 Maryland Avenue, SW., PCP, Room 11028, Washington, DC 20006-8524. Fax: (202) 245-7170.

Your paper application must be submitted in accordance with the mail or hand delivery instructions described in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.051C), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery:

If you submit your application in paper format by hand delivery, you (or a courier service) must deliver the original and two copies of your application by hand, on or before the application deadline date, to the Department at the following address: U.S. Department of Education, Application Control Center, Attention: (CFDA Number 84.051C), 550 12th Street, SW., Room 7041, Potomac Center Plaza, Washington, DC 20202-4260.

The Application Control Center accepts hand deliveries daily between 8 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

The selection criteria for this competition are from the notice of final priority, definitions, and selection criteria published elsewhere in this issue of the Federal Register and are as follows. The maximum score for the selection criteria in this competition is 140 points. Applications that meet the competitive preference priority will receive an additional 10 points.

(a) State capacity to implement a rigorous program of study (50 points): In determining the applicant's capacity to implement a rigorous POS, we review each application to determine the extent to which:

(1) The applicant proposes to build on existing State initiatives and partnerships in implementing the proposed project.

(2) The applicant selects a POS that will provide training leading to high-growth, high-demand, or high-wage occupations as determined through analysis of the national, State, or local labor market.

(3) The applicant provides evidence that it has selected a State-developed or State-approved POS that is built and sustained with the 10 Framework components identified in paragraphs (i) through (x); that it has identified which of the sub-components from among those listed under each Framework component are relevant to the selected POS; and that it plans to use those relevant sub-components in its POS and explains how it proposes to do so.

(i) State and local legislation, rules and regulations, or administrative policies that promote POS development and implementation, such as—

(A) The allocation of State or local funding (and other non-Federal resources) designed to promote POS development and long-term sustainability;

(B) The use of established, formal procedures for the design, implementation, and continuous improvement of POSs;

(C) Adherence to policies that ensure opportunities for any interested secondary student to participate in a POS; and

(D) The use of individual graduation or career plans for participating students.

(ii) Ongoing relationships among education, business, and other community stakeholders that support POS design, implementation, and maintenance, such as by—

(A) Using written memoranda that specify the roles and responsibilities of partnership members;

(B) Conducting ongoing analyses of economic and workforce trends to identify POSs that should be created, expanded, or, if appropriate, discontinued;

(C) Linking POS development to existing initiatives that promote workforce and economic development; and

(D) Identifying, validating, and updating technical and workforce readiness skills to be taught within POSs.

(iii) Sustained, intensive, and focused professional development opportunities for administrators, teachers, and faculty that foster POS design, implementation, and maintenance, and that—

(A) Support the alignment of academic and technical curriculum within the POS from grade to grade (within grades 9 through 12) and from secondary to postsecondary education;

(B) Support the development of integrated academic and CTE curriculum and instruction within the POS;

(C) Ensure that teachers and faculty have the necessary content knowledge to align and integrate curriculum and instruction within the POS;

(D) Foster innovative teaching and learning strategies within the POS; and

(E) Assist administrators, teachers, and faculty to use assessment data for POS program and instructional improvement.

(iv) Accountability and evaluation systems and strategies that gather quantitative and qualitative data on all 10 Framework components as well as on student outcomes to inform ongoing efforts to develop and implement POSs and to determine their effectiveness, and that—

(A) Yield valid and reliable data on key student outcomes (indicators of performance) referenced in the Act and other relevant Federal and State legislation; and

(B) Provide timely data to inform ongoing efforts to develop, implement, evaluate, and improve the effectiveness of POSs.

(v) POS content standards that define what students are expected to know and be able to do to enter and advance in college, their careers, or both, and that include aligned academic and technical content, and that—

(A) Are developed and continually validated in collaboration with secondary, postsecondary, and industry partners;

(B) Incorporate essential knowledge and skills that students must master regardless of their chosen career area or POS;

(C) Provide the same rigorous knowledge and skills in reading or language arts and in mathematics that employers and colleges expect of high school graduates; and

(D) To the extent practicable, are internationally benchmarked so that students are prepared to succeed in a global economy.

(vi) Course sequences within a POS that help students transition to postsecondary education without the need to duplicate classes or enroll in remedial courses, as evidenced by—

(A) Course sequence plans that map out recommended academic and career and technical courses for the POS;

(B) Course sequence plans that begin with introductory courses that provide broad foundational knowledge and skills common across all POSs and then progress to more occupationally specific courses that provide the knowledge and skills required for entry into and advancement in the selected POS; and

(C) Opportunities for students to earn postsecondary credit for coursework taken during high school.

(vii) Formal credit transfer agreements among secondary schools and postsecondary institutions that—

(A) Provide a systematic, seamless process for students to earn college credit for postsecondary courses taken in high school, transfer high school credit to any two- or four-year institution in the State that offers the POS, and transfer credit earned at a two-year college to any other two- or four-year institution in the State that offers the POS;

(B) Record college credit earned by high school students on their high school transcripts at the time the credit is earned so that they can transfer seamlessly into the college portion of the POS without the need for additional paperwork or petitioning for credit; and

(C) Describe the expectations and requirements for teacher and faculty qualifications, course prerequisites, postsecondary entry requirements, locations of courses, tuition reimbursement, and the credit transfer process.

(viii) Systems that provide career counseling and academic advisory services to help students make informed decisions about which POS to pursue and that—

(A) Are based on State or local guidance and counseling standards, such as the National Career Development Guidelines;

(B) Ensure that guidance counselors and academic advisors have access to up-to-date information about POS offerings to aid students in their decision-making;

(C) Offer information and tools to help students learn about postsecondary education and career options, including about the prerequisites for particular POSs;

(D) Provide resources for students to identify career interests and aptitudes and to select an appropriate POS;

(E) Provide information and resources for parents, including workshops on college and financial aid applications, on helping their children prepare for college and careers; and

(F) Provide Web-based resources and tools for obtaining student financial assistance.

(ix) Innovative and creative instructional approaches that enable teachers to integrate academic and technical instruction and also enable students to apply academic and technical learning in their POS coursework, as evidenced by—

(A) Interdisciplinary teaching teams of academic and career and technical secondary teachers or postsecondary faculty;

(B) The use of contextualized work-based, project-based, and problem-based learning approaches; and

(C) The use of teaching strategies that foster team-building, critical thinking, problem-solving, and communication skills.

(x) Existing valid and reliable technical skills assessments that provide ongoing information on the extent to which students are attaining the necessary knowledge and skills for entry into and advancement in postsecondary education and careers in their chosen POS and that—

(A) Are either third-party assessments recognized by industry or are technical skills assessments developed or approved by the State that are based on industry standards;

(B) Measure student attainment of technical skill proficiencies at multiple points during a POS;

(C) Incorporate, to the greatest extent possible, performance-based assessment items through which students must demonstrate the application of their knowledge and skills; and

(D) Result in the awarding of secondary credit, postsecondary credit, or special designation on a student's high school diploma.

(b) Capacity of statewide longitudinal data system (30 points): In determining the State's capacity to collect longitudinal data on a variety of secondary, postsecondary, and employment outcomes for individual students in order to assess the progress of students enrolled in the selected POS, we review each application to determine the extent to which:

(1) The State's longitudinal data system contains, at a minimum, the following elements—

(i) Statewide unique student identifiers;

(ii) Student-level enrollment data;

(iii) Student-level course completion (transcript) data;

(iv) The ability to match student-level secondary and postsecondary data;

(v) The ability to match student-level data with employment outcome data, using—

(A) Unemployment Insurance (UI) wage records; or

(B) Documented valid and reliable alternative methods such as surveys that have, at a minimum, a 70 percent response rate; and

(vi) A State data audit plan to verify that the education data are valid and reliable.

(2) The applicant provides evidence that project staff will be able to work cooperatively with State data specialists and to access the student outcome data needed to meet annual evaluation and reporting requirements for the POS project.

(c) Local implementation plan (20 points): In determining the quality of the plan for local implementation of the selected POS, we review each application to determine the extent to which—

(1) The applicant identifies each of the LEAs it has selected for local implementation of the POS and provides evidence of each LEA's capacity to implement the selected POS and the 10 Framework components, either at the start of the POS project or no later than the beginning of year 2 of the project, as well as the estimated number of students who would participate in the POS in years 2 through 4 of the project, by grade level;

(2) To the extent feasible, the participating LEAs represent urban, suburban, and rural communities, and where circumstances preclude a State from serving at least one of each of these types of communities, the State has provided an explanation in its application;

(3) For participating LEAs prepared to incorporate all 10 elements of the Framework in years 2 through 4 of the project, the applicant includes a letter of commitment from each LEA, expressing its interest in participating in the project and its commitment to implementing the selected POS as prescribed by the State in years 2 through 4 of the project and to maintain constancy in the implementation of the selected POS;

(4) For participating LEAs that do not have all 10 Framework components in place at the start of the project, the applicant outlines the specific actions it will take to ensure that weak or missing Framework components are strengthened or created so that all 10 Framework components are in place at those LEAs and the LEAs are ready to implement the POS by the beginning of the academic year corresponding to year 2 of the project;

(5) The applicant outlines a plan to provide ongoing oversight and technical assistance to the participating LEAs throughout the project period, to ensure constancy in the implementation of the selected POS across the participating LEAs; and

(6) An applicant in a State that has a single LEA outlines a plan—

(i) To implement the selected POS in at least three high schools, in concert with at least one of the LEA's postsecondary partners, i.e., at least one postsecondary institution (either two-year or four-year); and

(ii) To the extent feasible, the participating three high schools represent urban, suburban, and rural communities and, where circumstances preclude a State from serving at least one of each of these types of communities in its three participating high schools, the State has provided an explanation in its application.

(d) Project management (16 points). In determining the quality of the management plan for the proposed project, we review each application to determine the extent to which—

(1) The management plan incorporates, at a minimum, each of the requirements included in this notice and identifies specific and measurable objectives and tasks to be undertaken to accomplish each project activity;

(2) The management plan assigns responsibility for the accomplishment of project tasks to specific partners or project personnel and provides timelines that will result in the timely completion of all required project activities within each phase of the project;

(3) The Project Director and other key personnel clearly have the professional qualifications and experience necessary to implement their assigned project tasks; and

(4) The time commitments of the Project Director, key personnel, and partners are appropriate to the tasks assigned.

(e) Adequacy of resources (10 points). In determining the adequacy of resources for the proposed project, we consider the following factors:

(1) The adequacy of support to be provided (i.e., facilities, equipment, supplies, or other resources) by participating agencies and institutions at the State and local levels.

(2) Whether the budget is appropriate and the costs are reasonable in relation to the objectives and design of the proposed project.

(f) Evaluation (14 points): In determining the quality of the proposed project evaluation, we review each application to determine the extent to which—

(1) The proposed project evaluation is feasible and appropriate for evaluating the constancy of the implementation of the selected POS by the participating LEAs in years 2 through 4 of the project;

(2) The proposed evaluation is feasible and appropriate for evaluating the effectiveness of each of the 10 Framework components in each LEA;

(3) The proposed evaluation will be conducted by individuals or entities that possess the necessary background and expertise in project evaluation; and

(4) The applicant expresses its commitment to participate in the Department's Evaluation Design Meeting and has included suggestions regarding the use of student outcome data that it would be able to access through the State's longitudinal data system, including any documented valid and reliable alternative methods for collecting individual student employment outcome data, to assess the progress of students enrolled in the POS.

VI. Award Administration Information

1. Award Notices: If your application is successful, we notify your U.S. Representative and U.S. Senators and send you a Grant Award Notice (GAN). We may notify you informally, also.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates the approved application as part of your binding commitments under the grant.

3. Reporting. (a) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

(b) In addition, grantees under this competition must submit an interim report six months after the grant is awarded.

4. Performance Measures: Under the Government Performance and Results Act of 1993, Federal departments and agencies must clearly describe the goals and objectives of programs, identify resources and actions needed to accomplish goals and objectives, develop a means of measuring progress made, and regularly report on achievement. In determining the overall effectiveness of projects funded under this competition, grantees must be prepared to measure and report on the following measures of effectiveness, which are based on the indicators of performance required under section 113(b) (State Performance Measures) and section 203(e) (Tech Prep Indicators of performance and Accountability) of the Act:

(a) Secondary school completion. The percentage of secondary students participating in the POS supported by the grant award who earn a high school diploma.

(b) Technical skills attainment. The percentage of secondary students participating in the POS supported by the grant award who attain technical skills.

(c) Earned postsecondary credit during high school. The percentage of secondary students participating in the POS supported by the grant award who earn postsecondary credit.

(d) Enrollment in postsecondary education. The percentage of secondary students participating in the POS supported by the grant award who enroll in postsecondary education by the fall following high school graduation.

(e) Enrollment in postsecondary education in a field or major related to the secondary POS. The percentage of secondary students participating in the POS supported by the grant award who enroll in a postsecondary education program in a field or major related to the participant's secondary POS.

(f) Need for developmental course work in postsecondary education. The percentage of secondary students participating in the POS supported by the grant award who enroll in one or more postsecondary education developmental courses.

(g) Postsecondary credential, certificate, or diploma attainment. The percentage of secondary students participating in the POS supported by the grant award who attain an industry-recognized credential, certificate, or associate's degree, within two years following enrollment in postsecondary education.

VII. Agency Contact

For Further Information Contact: Laura Messenger, U.S. Department of Education, 400 Maryland Avenue, SW., Room 11028, Potomac Center Plaza, Washington, DC 20202-7241. Telephone: (202) 245-7772, or by e-mail: laura.messenger@ed.gov.

If you use a TDD, call the FRS, toll free, at 1-800-877-8339.

VIII. Other Information

Accessible Format: Individuals with disabilities can obtain this document and a copy of the application package in an alternative format (e.g., braille, large print, audiotape, or computer diskette) on request to the program contact person listed under For Further Information Contact in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: August 3, 2010.
Brenda Dann-Messier,
Assistant Secretary for Vocational and Adult Education.

[FR Doc. 2010-19485 Filed 8-5-10; 8:45 am]

BILLING CODE 4000-01-P